DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by March 4, 2002.

Title, Form, and OMB Number: Department of Defense Dependents Schools (DoDDS) Overseas Employment Opportunities for Education; DS Form(s) 5010, 5011, 5012, 5013; OMB Number 0704-0370.

Type of Request: Reinstatement.

Number of Respondents: 25,120.

Responses Per Respondent: 1.

Annual Responses: 25,120.

Average Burden Per Response: 10minutes.

Annual Burden Hours: 4,127.

Needs and Uses: This information collection is necessary to obtain information on prospective applicants for educator positions within the Department of Defense Dependents Schools. The information is used to verify employment history of educator applicants and to determine creditable previous experience for pay-setting purposes on candidates selected for positions. In addition, the information is used to ensure that those individuals selected for employment with the Department of Defense Schools possess the abilities and personal traits that give promise of outstanding success under the unusual circumstances they will find working abroad. Information gathered is used to ensure that the Department of Defense Dependents Schools personnel practices meet the requirements of Federal law.

Affected Public: Individuals or households; business or other for-profit institutions; State, Local or Tribal Government.

Frequency: On occasion.

Respondent's Obligation: Required to obtain or retain benefits.

OMB Desk Officer: Ms. Jackie Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: January 25, 2002.
Patricia L. Toppings,
Alternate OSD Federal Register Liaison Officer, Department of Defense.

[FR Doc. 02-2470 Filed 1-31-02; 8:45 am]

BILLING CODE 5001-08-M